DEPARTMENT OF HOUSING AND URBAN DEVELOPMENT

[Docket No. FR-5383-N-01]

Notice of Proposed Information Collection for Public Comment; Multifamily Tenant Characteristics Family Reporting

AGENCY: Office of the Assistant Secretary for Public and Indian Housing, HUD.

ACTION: Notice of proposed information collection.

SUMMARY: The proposed information collection requirement described below will be submitted to the Office of Management and Budget (OMB) for review, as required by the Paperwork Reduction Act. The Department is soliciting public comments on the subject proposal.

DATES: Comments Due Date: April 5, 2010.

ADDRESSES: Interested persons are invited to submit comments regarding this proposal. Comments should refer to the proposal by name/or OMB Control number and should be sent to: Leroy McKinney, Jr., Departmental Reports Management Officer, QDAM, Department of Housing and Urban Development, 451 7th Street, SW., Room 4178, Washington, DC 20410-5000; telephone 202.402.5564, (this is not a toll-free number) or e-mail Mr. McKinney at Leroy.McKinneyJr@hud.gov for a copy of the proposed forms, or other available information. Persons with hearing or speech impairments may access this number through TTY by calling the toll-free Federal Information Relay Service at (800) 877-8339. (Other than the HUD USER information line and TTY numbers, telephone numbers are not toll-free.)

FOR FURTHER INFORMATION CONTACT: Dacia Rogers, Office of Policy, Programs and Legislative Initiatives, PIH, Department of Housing and Urban Development, 451 7th Street, SW., Room 4116, Washington, DC 20410; telephone 202-402-3374, (this is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Multifamily Tenant Characteristics Family Report and Moving To Work Family Report.

OMB Control Number: 2577-0083.

Description of the need for the information and proposed use:

The Office of Public and Indian Housing of the Department of Housing and Urban Development (HUD) provides funding to Public Housing Agencies (PHAs) to administer assisted housing programs. Form HUD-50058 and Form HUD-50058 MTW Family Reports solicit demographic, family profile, income and housing information on the entire nationwide population of tenants residing in assisted housing. The information collected through the Form HUD-50058 and the Form HUD-50058 MTW will be used to monitor and evaluate Office of Public and Indian Housing programs including the Public Housing, Section 8 Housing Choice Voucher, Section 8 Project Based Certificates and Vouchers, Section 8 Moderate Rehabilitation and Moving to Work (MTW) Demonstration programs.

Collection of this information is authorized by: U.S. Housing Act of 1937 (42 U.S.C. 1437, et seq.), Quality Housing and Work Responsibility Act of 1998 (Public Law 105-276), HUD Appropriations Act 1996 (Pub.L. 104-134 Section 204), “Electronic Transmission of Required Family Data for Public Housing, Indian Housing and the Section 8 Rental Certificate, Rental Voucher, and Moderate Rehabilitation Programs” (24 CFR Part 908).

Agency form numbers, if applicable: HUD Form-50058, HUD Form-50058 MTW.

Members of affected public: Public Housing Agencies, State and local governments, individuals and households.

Estimated Burden of Hours of the Proposed Information Collection
Information collection | Number of respondents (PHA) (with responses) | *Average number of reponses per respondent (with responses) | Total annual responses | Minutes per response | Total hours | Regulatory reference (24 CFR) *See Attached
Form HUD-50058 New Admission | 4,114 | 86 | 355,984 | 40 | 237,323 | 908.101
Form HUD-50058 Recertification | 4,114 | 583 | 2,398,340 | 20 | 799,447 | 908.101
Form HUD-50058 MTW New Admission | 25 | 529 | 13,236 | 40 | 8,824 | 908.101
Form HUD-50058 Recertification | 25 | 4,018 | 100,444 | 20 | 33,481 | 908.101
Total Responses: 2,868,004 = Total Hours: 1,079,075.
*Average Number of Responses per Respondents Total Annual Responses/Number of Respondents.

Status of Proposed Information Collection: Extension of the currently approved collection.

Authority: Section 3506 of the Paperwork Reduction Act of 1995, 44 U.S.C. Chapter 35, as amended.

Dated: January 27, 2010.
Merrie Nichols-Dixon,
Acting Deputy Assistant Secretary for Policy, Programs, and Legislative Initiatives.

[FR Doc. 2010-2195 Filed 2-2-10; 8:45 am]

BILLING CODE 4210-67-P